NUCLEAR REGULATORY COMMISSION

Advisory Committee on Nuclear Waste; Public-Outreach Session

The U.S. Nuclear Regulatory Commission's (NRC's) Advisory Committee on Nuclear Waste (ACNW) will hold a public-outreach session on September 23, 2002, 5 p.m. to 7 p.m., at the Bob Ruud Community Center, 150 North Highway 160 and Basin Avenue, Pahrump, Nevada. This public-outreach session is a continuation of the ACNW's efforts to gain further insights into stakeholders' concerns and perspectives on the proposed geologic repository at Yucca Mountain, Nevada. There is no set agenda for the public-outreach session, and interested stakeholders will be able to discuss their views with ACNW members individually.

If you have any questions concerning this notice or intend to address the ACNW in the public-outreach session, please contact Michael P. Lee, ACNW Senior Staff Engineer, by telephone (301-415-6677), facsimile (301-415-5589), or e-mail (MPL@nrc.gov). Please be aware that neither the ACNW nor the NRC will bear any financial cost or obligation related to stakeholder participation in the session.

Dated: August 23, 2002.
Sher Bahadur,
Associate Director for Technical Support, ACRS/ACNW.

[FR Doc. 02-22107 Filed 8-28-02; 8:45 am]

BILLING CODE 7590-01-P